OFFICE OF THE UNITED STATES TRADE REPRESENTATIVE

Anti-Counterfeiting Trade Agreement (ACTA): Notice of Public Meeting

AGENCY: Office of the United States Trade Representative.

ACTION: Notice of public meeting.

SUMMARY: The Office of the United States Trade Representative (USTR), together with key trading partners, is negotiating an Anti-Counterfeiting Trade Agreement with the objective of strengthening international cooperation, enforcement practices, and participants' legal frameworks to address counterfeiting and piracy. As part of this effort, USTR, together with the U.S. Department of Commerce, is organizing a public meeting to consult with interested parties on the initiative. The purposes of the meeting will be to inform stakeholders about ACTA and to receive comments from stakeholders about their views regarding this initiative. Interested parties should review the section on requirements for participation below.

DATES: The meeting will be held on Monday, September 22, 2008, 10 a.m.-12 noon.

ADDRESSES: U.S. Department of Commerce, Herbert C. Hoover Building, 1401 Constitution Avenue, NW., Washington, DC 20230. The meeting will be held in the Main Auditorium.

FOR FURTHER INFORMATION CONTACT: Rachel S. Bae, Director for Intellectual Property and Innovation, Office of the United States Trade Representative, at (202) 395-4510.

SUPPLEMENTARY INFORMATION: On October 23, 2007, USTR announced that the United States, along with a group of trading partners, would pursue negotiation of a new Anti-Counterfeiting Trade Agreement (ACTA) to enhance international leadership in the fight against IPR counterfeiting and piracy. The United States and other interested parties intend to seek an agreement with provisions in three main areas: International cooperation, enforcement practices, and the legal framework for IPR enforcement.

A principal goal of the ACTA is to establish, among governments committed to strong IPR protection, a common standard for IPR enforcement to combat global infringements of IPR particularly in the context of counterfeiting and piracy that addresses today's challenges, in terms of increasing international cooperation, strengthening the framework of practices that contribute to effective enforcement of IPRs, and strengthening relevant IPR enforcement measures themselves. A fact sheet providing further details on the ACTA can be found on the USTR Web site at: http://www.ustr.gov/assets/Document_Library/Fact_Sheets/2008/asset_upload_file760_15084.pdf

Requirements for Participation: Prior registration is required. To register, please send all required information by Wednesday, September 17, 2008 to the following e-mail address: Amanda.Wilson@mail.doc.gov. Required information for U.S. Citizens: Full Name and Name of Organization (if appropriate). Required information for Non-U.S. Citizens: Full Name, Gender, Title, Name of Organization (if appropriate), Date of Birth, Place of Birth, Passport Number, Place of Residence, Place of Citizenship. All attendees must bring a government-licensed photo identification upon arrival.

Due to limited space in the room, participation will be on a first-come, first-serve basis. The participation of more than one representative from an organization may also be conditioned on the total number of participants. Those unable to participate in the meeting and/or who wish to present their positions in writing may send their comments electronically no later than Wednesday, September 17, 2008, to the following e-mail address: ACTA@ustr.eop.gov.

Requirements for Comments: Comments must be in English. No submissions will be accepted via postal service mail or facsimile. Documents should be submitted as either WordPerfect, MS Word, Adobe, or text (.TXT) files. Supporting documentation submitted as spreadsheets is acceptable as Quattro Pro or Excel files. A submitter requesting that information contained in a comment be treated as confidential business information must certify that such information is business confidential and would not customarily be released to the public by the submitter. A non-confidential version of the comment must also be provided. For any document containing business confidential information, the file name of the business confidential version should begin with the characters “BC-”, and the file name of the public version should begin with the character “P-”. The “P-” or “BC-” should be followed by the name of the submitter. Submissions should not include separate cover letters; information that might appear in a cover letter should be included in the submission itself. To the extent possible, any attachments to the submission should be included in the same file as the submission itself, and not as separate files.

Public Inspection of Submissions: Within one business day of receipt, non-confidential submissions will be placed in a public file, open for inspection at the USTR reading room, Office of the United States Trade Representative, Annex Building, 1724 F Street, NW., Room 1, Washington, DC. An appointment to review the file must be scheduled at least 48 hours in advance and may be made by calling Jacqueline Caldwell at (202) 395-6186. The USTR reading room is open to the public from 10 a.m. to 12 noon and from 1 p.m. to 4 p.m., Monday through Friday.

Rachel S. Bae,
Director for Intellectual Property and Innovation.

[FR Doc. E8-20572 Filed 9-4-08; 8:45 am]

BILLING CODE 3190-W8-P